NUCLEAR REGULATORY COMMISSION

Advisory Committee on Nuclear Waste; Notice of Meeting

The Advisory Committee on Nuclear Waste (ACNW) will hold its 170th meeting on May 23-26, 2006, Room T-2B3, 11545 Rockville Pike, Rockville, Maryland.

The schedule for this meeting is as follows:

Tuesday, May 23, 2006

ACNW Working Group Meeting on Low-Level Radioactive Waste (LLW) Management Issues

8:30 a.m.-8:40 a.m.: Greeting and Introductions (Open)—The ACNW Chairman, Dr. Michael Ryan, will state the purpose and objectives for this Working Group Meeting. He will also provide an overview of the planned technical sessions for Day 1 and introduce invited panelists and speakers.

Purpose of ACNW Working Group Meeting. The purposes of this ACNW Working Group Meeting are to:

—Obtain current information on commercial LLW management practices.

—Identify emerging LLW management issues and concerns.

—Solicit stakeholder views on what changes to the regulatory framework for managing LLW should be recommended for Commission consideration.

—Solicit stakeholder views on actions the NRC can take to ensure a stable, reliable and adaptable regulatory framework for effective LLW management.

—Identify specific impacts, both positive and negative, of potential staff activities.

8:40 a.m.-9:40 a.m.: Existing LLW Licensee Operational Experience and Perspective (Open)—The Committee will hear presentations by representatives of Chem-Nuclear Systems, LLC and EnergySolutions, LLC.

9:40 a.m.-10:40 a.m.: Alternative Disposal Options and Practices (Open)—The Committee will hear presentations by Waste Control Specialists and U.S. Ecology—American Ecology.

11 a.m.-11:30 a.m.: NRC's Current LLW Program: Challenges (Open)—The Committee will hear a presentation by a NRC staff representative regarding the current LLW program.

11:30 a.m.-12:30 p.m.: NRC's 10 CFR Part 61: Historical Perspective (Open)—The Committee will hear presentations from former NRC staff regarding the development of NRC's LLW regulatory framework.

2 p.m.-3:30 p.m.: State/Compact Disposal Experience (Open)—The Committee will hear presentations from representatives of the Southwestern Low-Level Radioactive Waste Commission and the South Carolina Department of Health and Environmental Control.

3:30 p.m.-4 p.m.: LLW Definitions and Decommissioning Experience (Open)—The Committee will hear a presentation by a representative from the Nuclear Energy Institute.

4 p.m.-4:30 p.m.: New License Application Perspectives (Open)—The Committee will hear a presentation by a representative from Waste Control Specialists, LLC.

4:30 p.m.-5:30 p.m.: Stakeholder and Public Comments (Open).

Wednesday, May 24, 2006

8:30 a.m.-8:40 a.m.: Greeting and Introductions (Open)—Dr. Ryan will provide an overview of the planned technical sessions for Day 2 and introduce the invited panelists and speakers.

8:40 a.m.-11 a.m.: Industry Roundtable Discussion (Open)—Scheduled participants are expected to include representatives from Entergy, the U.S. Army Corps of Engineers, the South Carolina Department of Health and Environmental Control, Harvard University, and U.S. Ecology—American Ecology.

12:30 p.m.-3 p.m.: Panel Discussion Concerning NRC's LLW Strategic Assessment (Open)—Scheduled participants are expected to included representatives from the Washington State Department of Health, the NRC staff, Chem-Nuclear Systems, the Texas Council on Environmental Quality, and the California Radioactive Materials Management.

3 p.m.-4:30 p.m.: Stakeholder and Public Comments (Open).

4:30 p.m.-5 p.m.: Closing Remarks (Open)—By Dr. Ryan.

5 p.m.-5:30 p.m.: ACNW Working Group Meeting Impressions—Discussion of Letter Report (Open)—The Committee will discuss the impressions of the Working Group Meeting and proposed ACNW letters.

Thursday, May 25, 2006

8:25 a.m.-8:30 a.m.: Opening Remarks by the ACNW Chairman (Open)—The ACNW Chairman will make opening remarks regarding the conduct of the meeting.

8:30 a.m.-10:30 a.m.: National Academy of Sciences (NAS) Report on the Management of Certain Tank Wastes at U.S. Department of Energy (DOE) Sites (Open)—Representatives of the NAS staff and an NAS Committee will brief the ACNW on the findings of a Congressionally-mandated study of radioactive waste streams stored in tanks at three DOE sites.

10:45 a.m.-12:15 p.m.: NRC Standard Review Plan (SRP) for Waste Determinations (Open)—NMSS representatives will update the Committee on progress in the development of the SRP to be used by the NRC staff to review DOE waste determinations.

1:30 p.m.-3 p.m.: Review of International Commission on Radiological Protection (ICRP) Draft Report, “The Scope of Radiological Protection Regulations” (Open)—Briefing by and discussions with representatives of the NRC staff regarding the ICRP draft report for comment titled, “The Scope of Radiological Protection Regulations.”

3:15 p.m.-5:30 p.m.: Discussion of Draft Letters and Reports (Open)—The Committee will discuss proposed ACNW letters.

Friday, May 26, 2006

10 a.m.-10:10 a.m.: Opening Remarks by the ACNW Chairman (Open)—The ACNW Chairman will make opening remarks regarding the conduct of the meeting.

10:10 a.m.-11:45 a.m.: Overview of NRC Spent fuel Storage Program (Open)—NMSS representatives will provide an overview of NRC spent fuel storage program.

11:45 a.m.-4 p.m.: Discussion of Draft Letters and Reports (Open)—The Committee will discuss proposed ACNW letters.

4 p.m.-4:30 p.m.: Miscellaneous (Open)—The Committee will discuss matters related to the conduct of ACNW activities and specific issues that were not completed during previous meetings, as time and availability of information permit. Discussions may include future Committee Meetings.

Procedures for the conduct of and participation in ACNW meetings were published in the Federal Register on October 11, 2005 (70 FR 59081). In accordance with these procedures, oral or written statements may be presented by members of the public. Electronic recordings will be permitted only during those portions of the meeting that are open to the public. Persons desiring to make oral statements should notify Mr. Michael R. Snodderly (Telephone 301-415-6927), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Snodderly as to their particular needs.

Further information regarding topics to be discussed, whether the meeting has been canceled or rescheduled, the Chairman's ruling on requests for the opportunity to present oral statements and the time allotted, therefore, can be obtained by contacting Mr. Snodderly.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: May 4, 2006.
Andrew L. Bates,
Advisory Committee Management Officer.

[FR Doc. E6-7161 Filed 5-10-06; 8:45 am]

BILLING CODE 7590-01-P